DEPARTMENT OF TRANSPORTATION

Federal Aviation Administration

14 CFR Part 39

[Docket No. FAA-2009-0659; Directorate Identifier 2009-NM-060-AD]

RIN 2120-AA64

Airworthiness Directives; Empresa Brasileira de Aeronautica S.A. (EMBRAER) Model EMB-135BJ, -135ER, -135KE, -135KL, and -135LR Airplanes; and EMB-145, -145ER, -145MR, -145LR, -145XR, -145MP, and -145EP Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

It has been found occurrences of main landing gear (MLG) trailing arm pins broken due to a fatigue mechanism induced by an excessive torque applied during the assemblage of auxiliary door support attachment and consequent deformation of the MLG trailing arm axle. A broken pin can lead to loss of the MLG trailing arm axle, disconnecting the trailing arm from the main strut, which affects the airplane controllability on ground.

* * * * *

The proposed AD would require actions that are intended to address the unsafe condition described in the MCAI.

DATES: We must receive comments on this proposed AD by August 31, 2009.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact Empresa Brasileira de Aeronautica S.A. (EMBRAER), Technical Publications Section (PC 060), Av. Brigadeiro Faria Lima, 2170—Putim—12227-901 São Jose dos Campos—SP—BRASIL; telephone: +55 12 3927-5852 or +55 12 3309-0732; fax: +55 12 3927-7546; e-mail: distrib@embraer.com.br; Internet: http://www.flyembraer.com.

You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Sanjay Ralhan, Aerospace Engineer, International Branch, ANM-116, Transport Airplane Directorate, FAA, 1601 Lind Avenue, SW., Renton, Washington 98057-3356; telephone (425) 227-1405; fax (425) 227-1149.

SUPPLEMENTARY INFORMATION:

Comments Invited

We invite you to send any written relevant data, views, or arguments about this proposed AD. Send your comments to an address listed under the ADDRESSES section. Include “Docket No. FAA-2009-0659; Directorate Identifier 2009-NM-060-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directive 2009-02-01, dated February 12, 2009 (referred to after this as “the MCAI”), to correct an unsafe condition for the specified products. The MCAI states:

It has been found occurrences of main landing gear (MLG) trailing arm pins broken due to a fatigue mechanism induced by an excessive torque applied during the assemblage of auxiliary door support attachment and consequent deformation of the MLG trailing arm axle. A broken pin can lead to loss of the MLG trailing arm axle, disconnecting the trailing arm from the main strut, which affects the airplane controllability on ground.

* * * * *

Required actions include inspecting for cracks, and, if necessary, replacing the MLG trailing arm pin with a serviceable pin; and modifying the MLG auxiliary door mounting support. You may obtain further information by examining the MCAI in the AD docket.

Relevant Service Information

Embraer has issued Service Bulletins 145-32-0122, dated November 27, 2008; 145-52-0047, Revision 01, dated March 31, 2008; 145LEG-32-0033, dated November 27, 2008; and 145LEG-52-0014, dated October 28, 2008. The actions described in the service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a Note within the proposed AD.

Costs of Compliance

Based on the service information, we estimate that this proposed AD would affect about 711 products of U.S. registry. We also estimate that it would take about 2 work-hours per product to comply with the basic requirements of this proposed AD. The average labor rate is $80 per work-hour. Required parts would cost about $240 per product. Where the service information lists required parts costs that are covered under warranty, we have assumed that there will be no charge for these costs. As we do not control warranty coverage for affected parties, some parties may incur costs higher than estimated here. Based on these figures, we estimate the cost of the proposed AD on U.S. operators to be $284,400, or $400 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Empresa Brasileira de Aeronautica S.A. (EMBRAER): Docket No. FAA-2009-0659; Directorate Identifier 2009-NM-060-AD.

Comments Due Date

(a) We must receive comments by August 31, 2009.

Affected ADs

(b) None.

Applicability

(c) This AD applies to EMBRAER Model EMB-135BJ, as identified in Embraer Service Bulletin 145LEG-32-0033, dated November 27, 2008, except serial number 145363; and Model EMB-135ER, -135KE, -135KL, and -135LR airplanes, and Model EMB-145, -145ER, -145MR, -145LR, -145XR, -145MP, and -145EP airplanes, as identified in Embraer Service Bulletin 145-32-0122, dated November 27, 2008; certificated in any category.

Subject

(d) Air Transport Association (ATA) of America Code 32: Landing Gear.

Reason

(e) The mandatory continuing airworthiness information (MCAI) states:

It has been found occurrences of main landing gear (MLG) trailing arm pins broken due to a fatigue mechanism induced by an excessive torque applied during the assemblage of auxiliary door support attachment and consequent deformation of the MLG trailing arm axle. A broken pin can lead to loss of the MLG trailing arm axle, disconnecting the trailing arm from the main strut, which affects the airplane controllability on ground.

* * * * *

Required actions include inspecting for cracks, and, if necessary, replacing the MLG trailing arm pin with a serviceable pin; and modifying the MLG auxiliary door mounting support.

Actions and Compliance

(f) Unless already done, do the following actions.

(1) Within 2,500 flight hours or 24 months after the effective date of this AD, whichever occurs first, do the actions specified in paragraphs (f)(1)(i) and (f)(1)(ii) of this AD.

(i) Perform a visual inspection for cracks on the MLG trailing arm pins, in accordance with Embraer Service Bulletin 145-32-0122, dated November 27, 2008; or 145LEG-32-0033, dated November 27, 2008; as applicable. If any crack is found, before further flight, replace the MLG trailing arm pin with a serviceable pin, in accordance with Embraer Service Bulletin 145-32-0122, dated November 27, 2008; or 145LEG-32-0033, dated November 27, 2008; as applicable.

(ii) Prior to or concurrently with accomplishing the inspection required by paragraph (f)(1)(i) of this AD, modify the MLG auxiliary door mounting support, in accordance with Embraer Service Bulletin 145-52-0047, Revision 01, dated March 31, 2008; or 145LEG-52-0014, dated October 28, 2008; as applicable.

Note 1: For the purposes of this AD, a visual inspection is: An intensive examination of a specific item, installation or assembly to detect damage, failure or irregularity. Available lighting is normally supplemented with a direct source of good lighting at an intensity deemed appropriate. Inspection aids such as mirrors, magnifying lenses, etc., may be necessary. Surface cleaning and elaborate access procedures may be required.

Note 2: For the purposes of this AD, a serviceable pin is a pin that has no cracking.

(2) Modifications accomplished before the effective date of this AD according to Embraer Service Bulletin 145-52-0047, dated July 18, 2005, are considered acceptable for compliance with the corresponding action specified in this AD.

FAA AD Differences

Note 3: This AD differs from the MCAI and/or service information as follows: Agência Nacional de Aviação Civil (ANAC) Brazilian Airworthiness Directive 2009-02-01, dated February 12, 2009, is applicable to “all EMB-145 and EMB-135 aircraft models in operation.” However, this does not agree with Embraer Service Bulletin 145-32-0122, dated November 27, 2008; 145-52-0047, Revision 01, dated March 31, 2008; 145LEG-32-0033, dated November 27, 2008; or 145LEG-52-0014, dated October 28, 2008; which specifies that only certain Model EMB-145 and EMB-135 airplanes are affected and identifies them by serial number. This AD is applicable only to the airplanes listed in the applicable service bulletins. This difference has been coordinated with the ANAC.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Sanjay Ralhan, Aerospace Engineer, International Branch, ANM-116, Transport Airplane Directorate, FAA, 1601 Lind Avenue, SW., Renton, Washington 98057-3356; telephone (425) 227-1405; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Agência Nacional de Aviação Civil Airworthiness Directive 2009-02-01, dated February 12, 2009; Embraer Service Bulletin 145-32-0122, dated November 27, 2008; Embraer Service Bulletin 145-52-0047, Revision 01, dated March 31, 2008; Embraer Service Bulletin 145LEG-32-0033, dated November 27, 2008; and Embraer Service Bulletin 145LEG-52-0014, dated October 28, 2008; for related information.

Issued in Renton, WA, on July 22, 2009.
Ali Bahrami,
Manager, Transport Airplane Directorate, Aircraft Certification Service.

[FR Doc. E9-18158 Filed 7-29-09; 8:45 am]

BILLING CODE 4910-13-P